DEPARTMENT OF ENERGY

Federal Energy Regulatory Commission

[Docket No. PF06-30-000]

Rockies Express Pipeline, LLC; Notice of Intent to Prepare an Environmental Impact Statement for the Proposed Rockies Express Pipeline Project, Eastern Phase Request for Comments on Environmental Issues and Notice of Public Scoping Meetings

August 16, 2006.

The staff of the Federal Energy Regulatory Commission (FERC or Commission) will prepare an environmental impact statement (EIS) that will address the environmental impacts of the proposed Rockies Express Pipeline Project, Eastern Phase (the Project), which involves the construction and operation of facilities by Rockies Express Pipeline, LLC (Rockies Express) in Missouri, Illinois, Indiana, and Ohio. These facilities would consist of 622 miles of 42-inch-diameter natural gas pipeline; five new compressor stations; and approximately 41 mainline valves and 20 interconnects. This EIS will be used by the Commission in its decision-making process to determine whether the Project is in the public convenience and necessity.

This notice explains the scoping process that will be used to gather input from the public and interested agencies on the Project. Your input will help determine which issues/impacts need to be evaluated in the EIS. Please note that the scoping period will close on September 29, 2006.

Comments may be submitted in written form or verbally. In lieu of or in addition to sending in written comments, you are invited to attend the public scoping meetings that are scheduled in the Project area. Nine scoping meetings are scheduled for September 11 through 15, 2006, and are listed below. Further details on how to submit written comments and additional details on the public scoping meetings are provided in the Public Participation section of this notice.

Please note that written comments carry the same weight as comments made orally by participants at the scoping meetings, so if you are unable to attend one of the Commission-sponsored public scoping meetings, we highly encourage you to submit written comments to the Secretary of the Commission.

Date and time | Location(s)
Monday, September 11, 2006 7 p.m.-10 p.m. | Mexico, Missouri, Presser Hall, 900 South Jefferson Street, Mexico, Missouri 65265, 573-581-2765. Greensburg, Indiana, Greensburg High School Auditorium, 1000 E. Central Avenue, Greensburg, Indiana 47240, 812-663-7211.
Tuesday, September 12, 2006 7 p.m.-10 p.m. | Springfield, Illinois, Illinois Building, Illinois State Fairgrounds, 801 E. Sangamon Avenue, Springfield, Illinois 62702, 217-782-1698. Greenwood, Indiana, Greenwood Middle School, 532 South Madison Avenue, Greenwood, Indiana 46142, 317-889-4040.
Wed., September 13, 2006 7 p.m.-10 p.m. | Pittsfield, Illinois, Pike County Farm Bureau, 1301 E. Washington Street, Pittsfield, Illinois 62363, 217-285-2233. Trenton, Ohio, Edgwood High School Auditorium, 5005 Oxford State Road, Trenton, Ohio 45067, 513-867-7425.
Thursday, September 14, 2006 7 p.m.-10 p.m. | Rockville, Indiana, Clark's Hall Reception Area, 2155 East U.S. Highway 36, Rockville, Indiana 47872, 765-569-5794. Ashville, Ohio, Teays Valley High School Auditorium, 3887 St. Route 752, Ashville, Ohio 43103, 740-983-3131.
Friday, September 15, 2006 7 p.m.-10 p.m. | Zanesville, Ohio, Zanesville High School Auditorium, 1701 Blue Avenue, Zanesville, Ohio 43701, 740-588-4022.

The Rockies Express Project, Eastern Phase, is currently in the preliminary stages of design, and at this time a formal application has not been filed with the Commission. For this proposal, the Commission is initiating the National Environmental Policy Act (NEPA) review prior to receiving the application. This allows interested stakeholders to become involved early in project planning and to identify and resolve issues before an application is filed with the FERC. A docket number (PF06-30-000) has been established to locate in the public record information filed by Rockies Express and related documents issued by the Commission.¹ Once a formal application is filed with the FERC, a new docket number will be established.

¹ To view information in the docket, follow the instructions for using the eLibrary link at the end of this notice.

With this notice, we are asking other Federal, state, and local agencies with jurisdiction and/or special expertise with respect to environmental issues in the project area to formally cooperate with us in the preparation of the EIS. These agencies may choose to participate once they have evaluated the proposal relative to their responsibilities. Agencies that would like to request cooperating status should follow the instructions for filing comments described later in this notice. We encourage government representatives to notify their constituents of this planned project and encourage them to comment on their areas of concern.

This notice is being sent to landowners within 0.5 mile of the proposed compressor station sites; landowners affected along the pipeline route under consideration; Federal, state, and local government agencies; elected officials; environmental and public interest groups; Native American tribes; local libraries and newspapers; and other interested parties.

Some affected landowners may be contacted by a Rockies Express representative about the acquisition of an easement to construct, operate, and maintain the proposed project facilities. If so, Rockies Express and the affected landowners should seek to negotiate a mutually acceptable agreement. In the event that the Project is certified by the Commission, that approval conveys the right of eminent domain for securing easements for the facilities. Therefore, if easement negotiations fail to produce an agreement, Rockies Express could initiate condemnation proceedings in accordance with state law.

A fact sheet prepared by the FERC entitled “An Interstate Natural Gas Facility on My Land? What Do I Need To Know?” addresses a number of typically asked questions, including the use of eminent domain and how to participate in the Commission's proceedings. It is available for viewing on the FERC Internet Web site (http://www.ferc.gov).

Summary of the Proposed Project

Rockies Express' long-term plan is to construct three separately certificated pipelines that together would result in the installation of approximately 1,323 miles of 42-inch-diameter, high-pressure natural gas pipeline linking producing areas in the Rocky Mountain region to the upper Midwest and Eastern United States. This pipeline system would originate near the Cheyenne Hub, in Weld County, Colorado, and would terminate in Monroe County, Ohio. Rockies Express intends to pursue this system plan in three discrete phases (Western, Central, and Eastern). The FERC is now considering the facilities included in the Eastern phase. Rockies Express currently envisions that the Eastern Phase would include:

• Approximately 622 miles of 42-inch-diameter gas pipeline between Audrain County, Missouri, and Monroe County, Ohio.

• Five new compressor stations, including:

—Mexico Compressor Station located in Audrain County, Missouri,

—Blue Mound Compressor Station located in Christian County, Illinois,

—Bainbridge Compressor Station in Putnam County, Indiana,

—Lebanon Compressor Station located in Butler County, Ohio, and

—Chandlersville Compressor Station in Muskingum County, Ohio.

• Approximately 20 new interconnects/meter stations with existing interstate pipelines, located in:

—Moultrie County, Illinois (NGPL and Illinois Power).

—Douglas County, Illinois (Trunkline).

—Edgar County, Illinois (Midwestern).

—Putnam County, Indiana (PEPL).

—Morgan County, Indiana (CGCU).

—Johnson County, Indiana (Indiana Gas).

—Shelby County, Indiana (ANR).

—Warren County, Ohio (Columbia Gas, Dominion, TETCO, Texas Gas, VECTREN, CG&E).

—Pickaway County, Ohio (Columbia Gas of Ohio).

—Fairfield County, Ohio (Columbia Gas).

—Muskingum County, Ohio (Tennessee Gas).

—Monroe County, Ohio (Dominion Transmission, Dominion East Ohio Gas); and

• Approximately 41 mainline valves.

A map depicting the general location of the Project facilities for the Eastern Phase is shown in the figure in Appendix 1.²

² The appendices referenced in this notice are not being printed in the Federal Register. Copies are available from the Commission's Public Reference and Files Maintenance Branch, at (202) 502-8371. For instructions on connecting to eLibrary, refer to the Public Participation section of this notice.

The entire project, when completed would carry between 1.5 and 2.0 billion cubic feet of gas per day. Rockies Express is requesting approval such that the facilities are completed and placed into service by December 2008, except for the two most eastern compressor stations that would be in-service by June 2009. Rockies Express proposes to begin construction in March 2008.

Land Requirements for Construction

It is estimated that the construction of the Project facilities would disturb about 5,100 acres of land. Following construction, about 4,000 acres of the total would be retained for the operation of the pipeline and the aboveground facilities (compressor/meter stations). Rockies Express proposes to use a 125-foot-wide construction right-of-way with occasional increases in width for additional workspace at waterbody, wetland, road, and railroad crossings. Extra workspaces may also be required in areas with site-specific constraints, such as side-slope construction. Other temporary land requirements would include land for pipe storage and equipment yards. Following construction, all temporary workspace (including all temporary construction rights-of-way, extra workspaces, and pipe storage and contractor yards) would be restored and allowed to revert to its former use. Operation of the pipeline facilities would require a nominal 50-foot-wide permanent right-of-way.

The EIS Process

NEPA requires the Commission to take into account the environmental impacts that could result from an action whenever it considers the issuance of a Certificate of Public Convenience and Necessity under Section 7 of the Natural Gas Act. NEPA also requires us to identify and address concerns the public would have about proposals. This process is referred to as “scoping.” The main goal of the scoping process is to focus the analysis in the EIS on important environmental issues and reasonable alternatives. By this Notice of Intent, the Commission staff requests agency and public comments on the scope of the issues to be addressed in the EIS. All comments received are considered during the preparation of the EIS.

We ³ have already started to meet with Rockies Express, agencies, and other interested stakeholders to discuss the Project and identify issues/impacts and concerns. Between June 19 and 29, 2006, representatives of FERC staff participated in 18 public open houses sponsored by Rockies Express in the Project area to explain the NEPA environmental review process to interested stakeholders and take comments about the Project.

³ “We,” “us,” and “our” refer to the environmental staff of FERC's Office of Energy Projects.

Our independent analysis of the issues will be included in the draft EIS. The draft EIS will be published and mailed to Federal, state, and local agencies, elected officials, public interest groups, Native American tribes, affected landowners, interested individuals, local libraries, newspapers, and the Commission's official service list for this proceeding. A comment period will be allotted for review of the draft EIS. We will consider all timely comments on the draft EIS and revise the document, as necessary, before issuing a final EIS.

Currently Identified Environmental Issues

In the EIS we will discuss impacts that could occur as a result of the construction and operation of the proposed project and will also evaluate possible alternatives to the proposed project or portions of the project, and make recommendations on how to lessen or avoid impacts on affected resources. We have identified several potential issues that we think deserve attention based on a preliminary review of the proposed facilities and the information provided by Rockies Express. This preliminary list of potential issues may be changed based on your comments and our analysis.

• Geology and Soils

—Impact on agricultural lands and irrigation systems.

—Impact of construction on prime farmland soils.

—Blasting and disposal of excess rock associated with construction.

—Evaluation of noxious weed control measures.

—Impacts of construction on coal mining operations.

• Water Resources:

—Impact of pipeline construction on groundwater, aquifer and water supply wells.

—Impact of construction on wetlands and waterbodies, including the proposed horizontal directional drill of the Mississippi River.

—Assessment of the use and release of hydrostatic test water.

• Fish, Wildlife, and Vegetation:

—Development of revegetation plans.

—Impacts on the Big Walnut Nature Preserve in central Indiana.

• Endangered and Threatened Species:

—Effect on Federally listed species.

• Cultural Resources:

—Impact on known and undiscovered cultural resources.

—Native American tribal concerns.

• Land Use, Recreation and Special Interest Areas, and Visual Resources:

—Permanent land use alteration associated with pipeline easement.

—Impact on residences, including proximity of facilities to existing structures in highly developed residential and commercial areas.

—Potential land use conflicts with planned and future development.

—Restrictions on future use of pipeline right-of-way.

• Socioeconomics:

—Benefits to local communities.

—Use of local labor, equipment, and supplies.

• Air Quality and Noise:

—Effects on local air quality and ambient noise from construction and operation of the proposed facilities, particularly associated with the proposed compressor stations.

• Reliability and Safety:

—Assessment of hazards associated with the transportation of natural gas.

—Assessment of security associated with operation of natural gas facilities.

Public Participation

You are encouraged to become involved in this process and provide your specific comments or concerns about Rockies Express' proposal. Your comments should focus on the potential environmental effects, reasonable alternatives, and measures to avoid or lessen environmental impact. The more specific your comments, the more useful they will be. To expedite the receipt and consideration of your comments, electronic submission of comments is strongly encouraged. See Title 18 CFR 385.2001(a)(1)(iii) and the instructions on the FERC Internet Web site (http://www.ferc.gov/) under the eFiling link and the link to the User's Guide. Before you can submit comments you will need to create a free account by clicking on “Sign-up” under “New User.” You will be asked to select the type of submission you are making. This type of submission is considered a “Comment on Filing.” Comments submitted electronically must be submitted by September 29, 2006.

If you wish to mail comments, please mail your comments so that they will be received in Washington, DC on or before September 29, 2006 and carefully follow these instructions:

• Send an original and two copies of your letter to: Magalie R. Salas, Secretary, Federal Energy Regulatory Commission, 888 First St., NE., Room 1A, Washington, DC 20426.

• Label one copy of your comments for the attention of Gas Branch 1.

• Reference Docket No. PF06-30-000 on the original and both copies.

• Mail your comments so that they will be received in Washington, DC on or before September 29, 2006.

The public scoping meetings identified in the table above are designed to provide state and local agencies, interested groups, affected landowners, and the general public with another opportunity to offer your comments on the Project. Interested groups and individuals are encouraged to attend the meetings and to present comments on the environmental issues they believe should be addressed in the EIS. A transcript of each meeting will be made so that your comments will be accurately recorded.

Once Rockies Express formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission. You do not need intervener status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

If you received this notice, you are currently on the environmental mailing list for this Project and will continue to receive Project updates, Notices, including the draft and final EISs. If you wish to remain on our mailing list, or would like your contact information corrected, please return the Mailing List Retention Form included as Appendix 2. If you provide written comments to the Secretary following the procedures described above, you will automatically be kept on the mailing list, in lieu of returning the form (appendix 2). If you do not return this form, we will remove your name from our mailing list.

To reduce printing and mailing costs, the draft and final EISs will be issued in both CD-ROM and hard copy formats. The FERC strongly encourages the use of CD-ROM format in its publication of large documents. If you wish to receive a paper copy of the draft EIS instead of a CD-ROM, you must indicate that choice on the return postcard (Appendix 2).

Additional Information

Additional information about the Project is available from the Commission's Office of External Affairs, at 1-866-208-FERC or on the FERC Internet Web site (http://www.ferc.gov/) using the eLibrary link. Click on the eLibrary link, click on “General Search” and enter the project docket number excluding the last three digits (i.e., PF06-30) in the Docket Number field. Be sure you have selected an appropriate date range. For assistance, please contact FERC Online Support at FERCOnlineSupport@ferc.gov or toll free at 1-866-208-3676, or TTY, contact (202) 502-8659. The eLibrary link also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. Go to http://www.ferc.gov/esubscribenow.htm.

All public meetings will be posted on the Commission's calendar located at http://www.ferc.gov/EventCalendar/EventsList.aspx along with other related information.

Finally, Rockies Express has established an Internet Web site for this project at http://www.rexpipeline.com. The Web site includes a description of the project, maps of the proposed pipeline route, and answers to frequently asked questions. You can also request additional information or provide comments directly to Rockies Express at 1-866-566-0066 or mailto:info@rexpipeline.com.

Magalie R. Salas,
Secretary.

[FR Doc. E6-13890 Filed 8-21-06; 8:45 am]

BILLING CODE 6717-01-P